DEPARTMENT OF COMMERCE

National Oceanic and Atmospheric Administration

[RTID 0648-XA323]

Fisheries of the South Atlantic; South Atlantic Fishery Management Council; Public Meetings

AGENCY: National Marine Fisheries Service (NMFS), National Oceanic and Atmospheric Administration (NOAA), Commerce.

ACTION: Notice of public meeting.

SUMMARY: The South Atlantic Fishery Management Council (Council) will convene a meeting of the South Atlantic Selectivity Workgroup via webinar to address gear selectivity for fishery stock assessments for species managed by the Council.

DATES: The South Atlantic Selectivity Workgroup meeting will be held via webinar on Tuesday, August 25, 2020, from 1 p.m. until 4:30 p.m.

ADDRESSES:

Meeting address: The meeting will be held via webinar. The webinar is open to members of the public. Information, including a link to webinar registration and meeting materials will be posted on the Council's website at: https://safmc.net/safmc-meetings/other-meetings/ as it becomes available.

Council address: South Atlantic Fishery Management Council, 4055 Faber Place Drive, Suite 201, N. Charleston, SC 29405.

FOR FURTHER INFORMATION CONTACT: Chip Collier, Deputy Director for Science, SAFMC; phone: (843) 302-8444 or toll free: (866) SAFMC-10; fax: (843)769-4520; email: chip.collier@safmc.net.

SUPPLEMENTARY INFORMATION: The South Atlantic Selectivity Workgroup consists of scientists with expertise in selectivity or gears used in fisheries in the South Atlantic region including members of the Council's Scientific and Statistical Committee chosen to participate. The Workgroup will provide recommendations on selectivity for species managed by the Council for consideration in upcoming stock assessments.

Agenda items include:

1. Terms of Reference for South Atlantic Selectivity Workgroup

2. Review of Gear and Assessment Selectivity

3. An overview of a Selectivity Study conducted by the Florida Fish and Wildlife Research Institute

4. A presentation from NOAA Fisheries on Stereo-video Experiments

5. A review of submitted working papers to aid in the evaluation of selectivity

6. Discuss and provide recommendations related to selectivity issues for Black Sea Bass, Red Snapper and Vermilion Snapper.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: August 5, 2020.
Tracey L. Thompson,
Acting Deputy Director, Office of Sustainable Fisheries, National Marine Fisheries Service.

[FR Doc. 2020-17401 Filed 8-7-20; 8:45 am]

BILLING CODE 3510-22-P